DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 9, 2007.

Interested persons are invited to submit written comments regarding the subject matter of the investigations to the Director, Division of Trade Adjustment Assistance, at the address shown below, not later than March 9, 2007.

The petitions filed in this case are available for inspection at the Office of the Director, Division of Trade Adjustment Assistance, Employment and Training Administration, U.S. Department of Labor, Room C-5311, 200 Constitution Avenue, NW., Washington, DC 20210.

Signed at Washington, DC, this 15th day of February 2007.
Ralph Dibattista,
Director, Division of Trade Adjustment Assistance.

Appendix—TAA
[Petitions instituted between 2/5/07 and 2/9/07]
TA-W | Subject firm (petitioners) | Location | Date of institution | Date of petition
60896 | Merck and Company (Wkrs) | Albany, GA | 02/05/07 | 02/01/07
60897 | ADN Corporation (Wkrs) | Chicago, IL | 02/05/07 | 01/02/07
60898 | Thyssen Krupp Grankshafts Machining (Wkrs) | Danville, IL | 02/05/07 | 01/08/07
60899 | CCL Label St. Louis (Wkrs) | St. Charles, MO | 02/05/07 | 01/30/07
60900 | Martinrea Industries (Wkrs) | Clare, MI | 02/05/07 | 02/02/07
60901 | Perfect Fit Glove Co., LLC (Comp) | Buffalo, NY | 02/05/07 | 02/01/07
60902 | Tenet Healthcare (State) | Anaheim, CA | 02/05/07 | 02/02/07
60903 | Clarion Technologies, Inc. (Comp) | Ames, IA | 02/05/07 | 01/30/07
60904 | Reed Manufacturing Company, Inc. (Comp) | Tupelo, MS | 02/05/07 | 02/02/07
60905 | General Motors (UAW) | Janesville, WI | 02/05/07 | 02/02/07
60906 | Weyerhauser Company (UBCJA) | Eugene, OR | 02/05/07 | 02/02/07
60907 | Ski Country Imports, Inc. (Comp) | Denver, CO | 02/05/07 | 02/02/07
60908 | Georgia Pacific (Wkrs) | Muskogee, OK | 02/05/07 | 02/02/07
60909 | Kree Technologies, USA Inc. (Wkrs) | Plattsburg, NY | 02/06/07 | 02/05/07
60910 | HRU, Inc. (Comp) | Lansing, MI | 02/06/07 | 01/31/07
60911 | Truth Hardware (Wkrs) | West Hazleton, PA | 02/06/07 | 02/05/07
60912 | Quebecor World-Lincoln (State) | Lincoln, NE | 02/07/07 | 02/02/07
60913 | Reed Sportswear Manufacturing Co. (Wkrs) | Detroit, MI | 02/07/07 | 12/15/06
60914 | Martinrea-Reed City Tool and Die Division (Comp) | Reed City, MI | 02/07/07 | 02/06/07
60915 | Hanes-Ponce (Comp) | Ponce, PR | 02/07/07 | 01/29/07
60916 | AVX Corporation (Comp) | Raleigh, NC | 02/07/07 | 01/26/07
60917 | Kasper, Ltd (UNITE) | New York, NY | 02/07/07 | 02/05/07
60918 | Bosal Industries (Comp) | Columbia, TN | 02/08/07 | 02/05/07
60919 | Eaton Corporation (Comp) | Mantua, OH | 02/08/07 | 02/07/07
60920 | Allied Systems, Ltd. (Comp) | Chesapeake, VA | 02/08/07 | 02/07/07
60921 | Weyerhaeuser Company (Comp) | Springfield, OR | 02/08/07 | 02/01/07
60922 | RB and W Manufacturing, LL (Union) | Kent, OH | 02/08/07 | 02/05/07
60923 | Noutex Corporation (Comp) | Adams, MA | 02/08/07 | 02/07/07
60924 | Martco Limited Partnership/ROMEX WTC (State) | Alexandria, LA | 02/08/07 | 02/05/07
60925 | Westinghouse Electric Company Nuclear Automation (State) | New Britain, CT | 02/08/07 | 02/07/07
60926 | Verizon Business (Wkrs) | Cedar Rapids, IA | 02/08/07 | 01/27/07
60927 | IMI Cornelius Inc. (Comp) | Mason City, IA | 02/08/07 | 02/07/07
60928 | Florence Design Group (Comp) | Florence, AL | 02/08/07 | 02/06/07
60929 | Compuspar USA, Inc. (Wkrs) | Allentown, PA | 02/09/07 | 02/07/07
60930 | Helikon Furniture (State) | Taftville, CT | 02/09/07 | 02/08/07
60931 | Renfro Charleston, LLC (Comp) | Fort Payne, AL | 02/09/07 | 02/07/07
60932 | North Seas Yachts dba North Star Yachts (Comp) | Kalama, WA | 02/09/07 | 02/06/07
60933 | Gerson and Gerson Inc. (Comp) | Middlesex, NC | 02/09/07 | 02/08/07
60934 | Golden Manufacturing Co. (Wkrs) | Marietta, MS | 02/09/07 | 01/29/07

[FR Doc. E7-3274 Filed 2-26-07; 8:45 am]

BILLING CODE 4510-FN-P